DEPARTMENT OF ENERGY

Bonneville Power Administration

Condon Wind Project

AGENCY: Bonneville Power Administration (BPA), Department of Energy (DOE).

ACTION: Notice of intent to prepare an Environmental Impact Statement (EIS) and notice of floodplain and wetlands involvement.

SUMMARY: BPA intends to prepare an EIS on a proposed Condon Wind Project, located northwest of the town of Condon in Gilliam County, Oregon. SeaWest WindPower, Inc. (SeaWest) proposes to construct and operate the 24.3 to 24.75 megawatt (MW) wind generation facility. BPA proposes to purchase the electrical output from the project and to provide transmission services. The EIS will be site-specific as to the potential environmental impacts of the construction and operation of the wind project itself, as well as all related transmission facilities. In addition, the EIS will take a broad programmatic look at the balance of the project study area. This action may involve wetlands located in Gilliam County, Oregon. In accordance with DOE regulations for compliance with wetlands environmental review requirements, BPA will prepare a wetlands assessment and will perform this proposed action in a manner so as to avoid or minimize potential harm to or within the affected wetlands. The assessment will be included in the EIS being prepared for the proposed project in accordance with the National Environmental Policy Act (NEPA).

DATES: BPA has established a 30-day scoping period during which affected landowners, concerned citizens, special interest groups, local governments, and any other interested parties are invited to comment on the scope of the proposed EIS. Scoping will help BPA ensure that a full range of issues related to this proposal is addressed in the EIS, and also will identify significant or potentially significant impacts that may result from the proposed project. Written comments are due to the address below no later than August 7, 2000. Comments may also be made at the EIS scoping meetings to be held on July 19 and 20, 2000.

ADDRESSES: BPA invites comments and suggestions on the proposed scope of the Draft EIS. Send comment letters and requests to be placed on the project mailing list to Communications, Bonneville Power Administration—KC-7, P.O. Box 12999, Portland, Oregon, 97212. The phone number of the Communications office is 503-230-3478 in Portland; toll-free 1-800-622-4519 outside of Portland. Comments may also be sent to the BPA Internet address: comment@bpa.gov.

The EIS scoping meetings will be held at the City of Arlington Municipal Building, Council Chambers, Locust and First Streets, Arlington, Oregon, on July 19, 2000, from 4 p.m. to 8 p.m.; and at the Gilliam County Courthouse, Circuit Court Room, 221 S. Oregon Street, Condon, Oregon, on July 20, 2000, from 4 p.m. to 8 p.m. At these informal meetings, SeaWest will provide information, including maps, about the wind project. Written information will be available, and BPA staff will answer questions and accept oral and written comments.

FOR FURTHER INFORMATION CONTACT: Tiffany B. B. Branum, KECP-4, Bonneville Power Administration, P.O. Box 3621, Portland, Oregon 97208-3621, phone number 503-230-5115, fax number 503-230-5699.

SUPPLEMENTARY INFORMATION:

Background

Restructuring in the electric utility industry has resulted in increased demand for energy produced by new renewable resources. Part of this demand is due to the increased ability consumers have to choose their power provider. Some of these consumers want to encourage the development of renewable energy resources, and want their power provider to give them options for doing this. Some Northwest states (such as Oregon) have passed laws that require utilities to offer their customers a power rate that includes significant new renewable energy resources. In other cases, individual utilities have chosen to dedicate a portion of their wholesale power purchases to new renewable resources and are relying on BPA to supply them. In addition, the Northwest Power Planning Council's Fourth Conservation and Electric Power Plan recommends that Northwest utilities offer green power purchase opportunities as a way to help the region integrate renewable resources into the power system in the future.

Purpose and Need

In the face of regional growth in electrical loads and increasing constraints on the existing energy resource base, BPA needs to acquire resources that will contribute to diversification of the long-term power supply prospects in the region. The purposes of acquiring a diverse resource portfolio include:

• Protecting BPA and its customers against risk;

• Assuring consistency with BPA's responsibility under the Pacific Northwest Electric Power Planning and Conservation Act (Northwest Power Act) to encourage the development of renewable energy resources;

• Meeting customer demand for energy from renewable energy resources, thereby assuring consistency with BPA's Business Plan EIS (DOE/ EIS-0183, June 1995) and Business Plan Record of Decision (ROD);

• Assuring consistency with the resource acquisition strategy of BPA's Resource Programs EIS (DOE/EIS-0162, February 1993) and ROD; and

• Meeting the objective in the January 2000 Strategic Plan of BPA's Power Business Line to acquire at least 150 average MW of new renewable resources by the end of fiscal year 2006 in order to meet customer demand for new renewable resources.

Proposed Action

BPA proposes to execute one or more power purchase and transmission services agreements to acquire and transmit up to the full electrical output of SeaWest's proposed Condon Wind Project. SeaWest proposes to construct and operate this 24.3 to 24.75 MW wind generation facility, located in southern Gilliam County, Oregon, northwest of the town of Condon. The proposed project site consists of relatively flat plateaus located in an area of rolling, arid hills bisected by canyons. Land uses within the project site consist of non-irrigated agriculture—winter wheat and cattle grazing. The project will be located entirely on private farmland, and no project facilities will be constructed upon lands owned by the State of Oregon or by the United States.

The approximately 26 to 41 turbines will be arranged in several “strings,” with generally between 250 to 425 feet between turbines in each string. SeaWest is considering using either 600-kilowatt (kW) turbines similar to those used at the existing Foote Creek Rim Wind Project in Wyoming, or larger, up to 950-kW turbines. If the 600-kW turbines are used, the turbines will be about 165 to 197 feet tall at the turbine hub, and about 236 to 276 feet tall including the turbine blades. The diameter of the “swept area” covered by the rotors will be about 144 to 158 feet. Each turbine will be mounted on a tubular steel tower installed on a reinforced concrete foundation. Foundations will be either tubular or pad foundations, ranging from approximately 15 to 20 feet in width and extending up to 25 to 30 feet underground. If the 750-kW, 900-kW, or 950-kW turbines are used, or an alternative foundation design is utilized, these dimensions may be slightly greater. Agricultural activities generally can continue to take place directly adjacent to the turbine pads.

Power from all turbines in the project will be collected by an underground and overhead cable loop and then fed underground to a proposed substation to be located at the project site. The fenced substation site will occupy approximately one to two acres. From the substation site, power from the project will be transmitted by approximately two to five miles of new above-ground lines (likely single-pole wood structures) to interconnect with the existing BPA De Moss-Condon 69-kilovolt (kV) transmission line. Other facilities required as part of the project are access roads, an operation and maintenance (O&M) building, and onsite storage. Most of the access roads will consist of improved, graveled, existing farm roads, with some construction of new graveled roads in areas where usable farm roads do not exist. The O&M building will be on or near the project site. SeaWest proposes to begin construction in mid to late 2001. The Condon Wind Project is scheduled to begin commercial operation late in 2001, and would operate for at least 20 years.

Process to Date

Some environmental analyses have already been conducted by SeaWest. Surveys for sensitive plant and wildlife species were initiated in the spring of 2000. Scoping will help identify what additional studies will be required.

Alternatives Proposed for Consideration

The alternatives include the proposed action (executing a power purchase agreement with SeaWest for up to 24.75 MW of electrical energy from the proposed Condon Wind Project and authorizing transmission over BPA power lines) and the No Action alternative. In addition, at least two transmission alternatives will be examined in the EIS.

Identification of Environmental Issues

For other wind projects, noise, visual impact, influence on cultural resources, and effects on sensitive plant and animal species have been identified as potential environmental issues. The scoping process will help identify the range of environmental issues that should be addressed in this EIS. Maps and further information are available from BPA at the address above. When completed, the Draft EIS will be circulated for review and comment, and BPA will hold public comment meetings for the Draft EIS. BPA will consider and respond to comments received on the Draft EIS in the Final EIS, expected to be published in mid to late 2001. BPA's subsequent decision will be documented in a Record of Decision. The EIS will satisfy the requirements of NEPA.

Issued in Portland, Oregon, on June 27, 2000.
Judith A. Johansen,
Administrator and Chief Executive Officer.

[FR Doc. 00-16929 Filed 7-3-00; 8:45 am]

BILLING CODE 6450-01-P